DEPARTMENT OF ENERGY

Federal Energy Regulatory Commission

Combined Notice of Filings #1

October 13, 2009.

Take notice that the Commission received the following electric corporate filings:

Docket Numbers: EC10-3-000.

Applicants: Majestic Wind Power LLC, Butler Ridge, LLC, Wessington Wind I LLC, High Majestic Wind Energy Center, LLC, Butler Ridge Wind Energy Center, LLC, Wessington Wind Energy Center, LLC.

Description: Majestic Wind Power LLC, et al. Application for Authorization for Disposition of Jurisdictional Facilities, Request for Confidential Treatment, and Request for Expedited Consideration.

Filed Date: 10/09/2009.

Accesssion Number: 20091009-5140.

Comment Date: 5 p.m. Eastern Time on Friday, October 30, 2009.

Take notice that the Commission received the following electric rate filings:

Docket Numbers: ER07-407-006.

Applicants: High Prairie Wind Farm II, LLC.

Description: High Prairie Wind Farm II, LLC submits Sub. Original Sheet 3 to correct the inadvertent error.

Filed Date: 10/09/2009.

Accesssion Number: 20091013-0052.

Comment Date: 5 p.m. Eastern Time on Friday, October 30, 2009.

Docket Numbers: ER09-1636-001.

Applicants: Midwest Independent Transmission System Operator, Inc.

Description: Midwest Independent Transmission System Operator, Inc submits errata filing to correct a proposed revision to Attachment O of the Midwest ISO Open Access Transmission, Energy and Operating Reserve Markets Tariff.

Filed Date: 10/09/2009.

Accesssion Number: 20091013-0029.

Comment Date: 5 p.m. Eastern Time on Monday, October 19, 2009.

Docket Numbers: ER09-1637-001.

Applicants: Midwest Independent Transmission System.

Description: Midwest Independent Transmission System Operator, Inc submits errata filing to correct a proposed revision to Attachment O of the Midwest ISO Open Access Transmission, Energy and Operating Reserve Markets Tariff.

Filed Date: 10/13/2009.

Accesssion Number: 20091013-0030.

Comment Date: 5 p.m. Eastern Time on Monday, October 19, 2009.

Docket Numbers: ER09-1699-002.

Applicants: Eurus Combine Hills II LLC.

Description: Eurus Combine Hills II LLC submits second amended application for market based rate authority.

Filed Date: 10/08/2009.

Accesssion Number: 20091013-0031.

Comment Date: 5 p.m. Eastern Time on Thursday, October 29, 2009.

Docket Numbers: ER10-42-000.

Applicants: American Electric Power Service Corporation.

Description: American Electric Power Service Corporation submits first revision to the Interconnection and Local Delivery Service Agreement between AEP and the City of Danville.

Filed Date: 10/09/2009.

Accesssion Number: 20091013-0027.

Comment Date: 5 p.m. Eastern Time on Friday, October 30, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-25175 Filed 10-19-09; 8:45 am]

BILLING CODE 6717-01-P